DEPARTMENT OF AGRICULTURE

Federal Crop Insurance Corporation

7 CFR Part 457

Common Crop Insurance Regulations, Basic Provisions

AGENCY: Federal Crop Insurance Corporation, USDA.

ACTION: Final rule; correcting amendment.

SUMMARY: This document contains a correction to the link in the definition of “limited resource farmer” that is currently provided in the CFR.

DATES: Effective Date: August 9, 2016.

FOR FURTHER INFORMATION CONTACT: Tim Hoffmann, Director, Product Management, Product Administration and Standards Division, Risk Management Agency, United States Department of Agriculture, Beacon Facility, Stop 0812, Room 421, P.O. Box 419205, Kansas City, MO 64141-6205, telephone (816) 926-7730.

SUPPLEMENTARY INFORMATION:

Background

This correction is being published to correct the link that is no longer valid provided in the definition of “limited resource farmer.”

List of Subjects in 7 CFR Part 457

Administrative practice and procedure, Crop insurance, Reporting and recordkeeping requirements.

Need for Correction

As currently published, 7 CFR 457.8 contains an outdated link in the definition of “limited resource farmer.” Accordingly, 7 CFR part 457 is corrected by making the following amendment:

PART 457—COMMON CROP INSURANCE REGULATIONS

1. The authority citation for 7 CFR part 457 continues to read as follows:

Authority: 7 U.S.C. 1506(l) and 1506(o).

2. Amend § 457.8, in the Common Crop Insurance Policy, as follows:

a. In section 1. Definitions, by revising the definition of “Limited resource farmer”.

§ 457.8 The application and policy.

* * * * *

Common Crop Insurance Policy

* * * * *

1. Definitions

* * * * *

Limited resource farmer. Has the same meaning as the term defined by USDA at http://lrftool.sc.egov.usda.gov/LRP_Definition.aspx or successor Web site.

* * * * *

Signed in Washington, DC, on July 29, 2016.
Timothy J. Gannon,
Acting Manager, Federal Crop Insurance Corporation.

[FR Doc. 2016-18751 Filed 8-8-16; 8:45 am]

BILLING CODE 3410-08-P